FEDERAL TRADE COMMISSION

16 CFR Part 432

Trade Regulation Rule Relating to Power Output Claims for Amplifiers Utilized in Home Entertainment Products

AGENCY: Federal Trade Commission.

ACTION: Notice to reopen comment period.

SUMMARY: On December 22, 2000, the Federal Trade Commission (the “Commission”) commenced a rulemaking proceeding and requested public comments on a supplemental notice of proposed rulemaking to amend its Rule relating to Power Output Claims for Amplifiers Utilized in Home Entertainment Products (the “Amplifier Rule”). The Commission solicited comments until February 23, 2001. In response to a request from an industry trade association, the Commission reopens the comment period until March 30, 2001.

DATES: Written comments will be accepted until March 30, 2001.

ADDRESSES: Written comments should be submitted to Office of the Secretary, Federal Trade Commission, Room H-159, 600 Pennsylvania Ave., NW., Washington, DC 20580. Comments should be identified as “16 CFR Part 432 Comment—Amplifier Rule.” If possible, submit comments both in writing and on a personal computer diskette in Word Perfect or other word processing format (to assist in processing, please identify the format and version used). Written comments should be submitted, when feasible and not burdensome, in five copies.

FOR FURTHER INFORMATION CONTACT: Dennis Murphy, Economist, Division of Consumer Protection, Bureau of Economics, (202) 326-3524, or Neil Blickman, Attorney, Division of Enforcement, Bureau of Consumer Protection, (202) 326-3038, Federal Trade Commission, Washington, DC 20580.

SUPPLEMENTARY INFORMATION: On December 22, 2000, the Commission published in the Federal Register a request for public comments on a supplemental notice of proposed rulemaking to amend its Amplifier Rule, 16 CFR part 432 (65 FR 80798). The Amplifier Rule was promulgated on May 3, 1974 (39 FR 15387), to assist consumers in purchasing power amplification equipment for home entertainment purposes by standardizing the measurement and disclosure of various performance characteristics of the equipment. Specifically, the Federal Register notice solicited public comments on Commission proposals to amend the Amplifier Rule's testing procedures to provide appropriate power output ratings for the recently introduced class of “home theater” receivers that incorporate five or more channels of amplification. Pursuant to the Federal Register notice, the comment period on the supplemental notice of proposed rulemaking ended on February 23, 2001.

On February 13, 2001, the Commission staff received a request for an extension of the comment period from the Consumer Electronics Association (“CEA”). CEA has indicated that additional time is required so that it can conduct consumer research and industry surveys, which it asserts will be useful in preparing thorough, thoughtful responses to the proposals and questions contained in the Federal Register notice.

The Commission is aware that the issues raised by the Federal Register notice are complex and technical. Accordingly, to provide sufficient time for interested parties to prepare useful comments, the Commission has decided to extend the deadline for comments on its supplemental notice of proposed rulemaking until March 30, 2001.

Authority 15 U.S.C. 41-58.

List of Subjects in 16 CFR Part 432

Amplifiers, Home entertainment products, Trade practices.

By direction of the Commission.
Donald S. Clark,
Secretary.

[FR Doc. 01-4974 Filed 2-28-01; 8:45 am]

BILLING CODE 6750-01-M